DEPARTMENT OF HEALTH AND HUMAN SERVICES

Centers for Disease Control and Prevention

Board of Scientific Counselors, Office of Public Health Preparedness and Response (BSC, OPHPR)

In accordance with section 10(a)(2) of the Federal Advisory Committee Act (Pub. L. 92-463), the Centers for Disease Control and Prevention (CDC), announces the following meeting of the aforementioned committee:

Times and Dates: 10:30 a.m.-6 p.m., May 1, 2012; 9 a.m.-3:45 p.m., May 2, 2012.

Place: CDC, 1600 Clifton Road, NE., Roybal Campus, Atlanta, Georgia 30329. May 1, 2012: Building 19, Room 254/255. May 2, 2012: Building 21, Room 1204A/1204B.

Status: Open to the public limited only by the space available. The meeting room will accommodate up to 75 people. Public participants should pre-register for the meeting as described in Additional Information for Public Participants.

Purpose: This Board is charged with providing advice and guidance to the Secretary, Department of Health and Human Services (HHS), the Assistant Secretary for Health (ASH), the Director, Centers for Disease Control and Prevention (CDC), and the Director, Office of Public Health Preparedness and Response (OPHPR), concerning strategies and goals for the programs and research within OPHPR, monitoring the overall strategic direction and focus of the OPHPR Divisions and Offices, and administration and oversight of peer review of OPHPR scientific programs. For additional information about the Board, please visit: http://www.cdc.gov/phpr/science/counselors.htm.

Matters To Be Discussed: Agenda items for this meeting include: (1) Briefings and BSC deliberation on the following topics: CDC Laboratory Preparedness; OPHPR Research Portfolio Budget; CDC's Preparedness Index; Novel Approaches to Anti-Viral Delivery; CDC's Anthrax Management Team; Estimating the Cost of Preparedness; (2) Programmatic responses to BSC-approved recommendations resulting from external peer review of: The Career Epidemiology Field Officer (CEFO) Program and the Preparedness and Emergency Response Research Centers (PERRCs) program; (3) BSC liaison representative updates to the Board highlighting organizational activities relevant to the OPHPR mission; (4) a discussion of a proposed ad hoc working group to review the Division of Strategic National Stockpile (DSNS).

Agenda items are subject to change as priorities dictate.

Additional Information for Public Participants: Members of the public that wish to attend this meeting should pre-register by submitting the following information by email, facsimile, or phone (see Contact Person for More Information) no later than 12:00 noon (EDT) on Monday, April 20, 2012:

• Full Name,

• Organizational Affiliation,

• Complete Mailing Address,

• Citizenship, and

• Phone Number or Email Address

Contact Person for More Information: Carol Marsh, OPHPR BSC Coordinator, Centers for Disease Control and Prevention, 1600 Clifton Road, NE., Mailstop D-44, Atlanta, Georgia 30333, Telephone: (404) 639-4773; Facsimile: (404) 639-7977; Email: OPHPR.BSC.Questions@cdc.gov.

The Director, Management Analysis and Services Office, has been delegated the authority to sign Federal Register notices pertaining to announcements of meetings and other committee management activities for both the Centers for Disease Control and Prevention, and the Agency for Toxic Substances and Disease Registry.

Dated: March 30, 2012.
Elaine L. Baker,
Director, Management Analysis and Services Office, Centers for Disease Control and Prevention.

[FR Doc. 2012-8290 Filed 4-5-12; 8:45 am]

BILLING CODE 4163-18-P